DEPARTMENT OF AGRICULTURE

Forest Service

Spruce Creek Project, Boise National Forest, Idaho

AGENCY: Forest Service, USDA.

ACTION: Notice of Intent To Prepare Environmental Impact Statement.

SUMMARY: The Cascade Ranger District of the Boise National Forest will prepare an environmental impact statement (EIS) for a resource management project in the Gold Fork River drainage. The entire project is located in the watersheds that drain into the Gold Fork River, which in turn drains into Cascade Reservoir. The 9,997 acre project area is located 10 miles northeast of Cascade, Idaho, and about 120 miles north of Boise, Idaho.

The agency invites written comments and suggestions on the scope of the analysis. The agency also hereby gives notice of the environmental analysis and decisionmaking process that will occur on the proposal so interested and affected people are aware of how they may participate and contribute to the final decision. At this time no public meetings to discuss the project are planned.

Proposed Action: Eight objectives have been identified for the project: (1) Retain the existing size class of stands currently identified as large tree and manipulate the structure of small and medium tree size class stands to accelerate their movement towards the large tree size class, thereby retaining and potentially contributing to habitat for some terrestrial wildlife species associated with large tree size class; (2) Reduce the densities of stands currently identified as large tree size class in order to maintain or restore canopy closures within desired conditions, and to potentially contribute to habitat for those terrestrial wildlife species associated with large tree size class stands with low to moderate canopy closures; (3) Consistent with the particular habitat type, discriminate against shade tolerant species such as grand fir and subalpine fir and encourage retention and recruitment of seral species; (4) Relative to Douglas-fir beetle, mountain pine beetle, western pine beetle, western spruce budworm, and/or dwarf mistletoe, manipulate the structures, densities, and compositions of stands in order to maintain a low or moderate susceptibility level, or to decrease susceptibility to a low or moderate level; (5) Maintain or restore aspen and immature whitebark pine by eliminating competition with other conifer species; (6) Improve long term stand growth to or near levels indicative of sustainable forests; (7) Provide wood products to support local and regional economies; and; (8) Stabilize the cutslope failure on the #498 road.

The Proposed Action would implement silvicultural activities, including thinning of sub-merchantable trees, aspen enhancement, and whitebark pine enhancement, on 2,702 acres. An estimated 9.0 MMbf would be removed using tractor, off-road jammer, skyline, and helicopter yarding systems. The Proposed Action would employ a variety of silvicultural prescriptions including clearcut with reserve trees, commercial thin, improvement cut, irregular shelterwood, individual tree selection, sanitation, thinning of sub-merchantable trees, aspen enhancement, and whitebark pine enhancement.

Road maintenance activities would occur on an estimated 0.4 miles of existing road under this alternative. Specifically, one under-sized culvert along the #402 road would be replaced with a culvert sufficient in size to accommodate a 100-year flow event; a series of drive-through dips would be installed on the #402F1 road to prevent erosion; a culvert would be installed on the #402F road to facilitate silvicultural activities, and; an existing slump on the cutslope along the #498 road would be stabilized.

Roughly 1.1 miles of temporary road would be constructed to facilitate harvest activities and six helicopter landings constructed. Post-implementation management of the existing transportation system within the project area would not change under this alternative. All existing road restrictions would be reinstated upon completion of harvest activities.

Preliminary Issues: Preliminary concerns with the Proposed Action include potential impacts on water quality and terrestrial wildlife species.

Possible Alternatives to the Proposed Action: One alternative to the Proposed Action that has been discussed thus far is a no action alternative. Other alternatives will likely be developed as issues are identified and information received.

Decisions to be Made: The Boise National Forest Supervisor will decide the following: (1) Should vegetation be managed within the project area at this time, and if so, which stands should be treated and what silvicultural systems applied? (2) Should temporary roads be built at this time, and if so, how many miles should be built and where should they occur within the project area? (3) Should aspen and immature whitebark pine be enhanced by eliminating competing conifer species, and if so, where within the project area? (4) Should identified road maintenance activities occur on portions of roads #402, #402F1, #402F, and #498 at this time? (5) What design features, mitigation measures, and/or monitoring should be applied to the project?

DATES: Comments concerning the proposed project and analysis are encouraged and should be postmarked or received within 30 days following publication of this announcement in the Federal Register.

ADDRESSES: Comments should be addressed to the Cascade Ranger District, ATTN: Keith Dimmett, P.O. Box 696, Cascade, ID 83611 or sent electronically to comments-intermtn-boise-casade@fs.fed.us. Electronic comments must be submitted in plain text or another format compatible with Microsoft Word. Comments may also be delivered to the above address during regular business hours of 8 a.m. to 4:30 p.m. Monday-Friday. Comments can also be submitted by phone at 208-382-7400 or FAX to 208-382-7480. Comments received in response to this request will be available for public inspection and will be released in their entirety if requested pursuant to the Freedom of Information Act.

FOR FURTHER INFORMATION CONTACT: Further information can be obtained from Keith Dimmett at the address mentioned above or by calling 208-382-7400.

Schedule: Draft Environmental Impact Statement (DEIS), April 2007. Final Environmental Impact Statement (FEIS), June 2007.

SUPPLEMENTARY INFORMATION: An estimated 3,000 acres of the Needles Inventoried Roadless Area (IRA) lie within the Spruce Creek Project Area. With the exception of a portion of the whitebark pine enhancement treatments, none of the activities associated with the Proposed Action would occur within any IRA.

The entire project area drains into the Gold Fork River and, although there are no 303(d)/305(b) listed streams within the project area, that segment of the Gold Fork River immediately downstream of the project area is identified as a water quality limited waterbody. The pollutant of concern is phosphorus. A TMDL is currently in place and addresses the entire length of the Gold Fork River.

The entire project area lies within Management Area 18 (Cascade Reservoir), discussed on pages III-302 through III-315 in the Forest Plan. Several Management Prescription Categories (MPCs) apply within this management area. However, only MPC 4.1c and 5.2 occur within the project area. With the exception of a portion of the whitebark pine enhancement treatments, the Proposed Action includes management activities within MPC 5.2 only.

The comment period on the DEIS will be 45 days from the date the Environmental Protection Agency publishes the notice of availability in the Federal Register.

The Forest Service believes, at this early stage, it is important to give reviewers notice of several court rulings related to public participation in the environmental review process. First, reviewers of the DEIS must structure their participation in the environmental review of the proposal so that it is meaningful and alerts an agency to the reviewer's position and contentions. Vermont Yankee Nuclear Power Corp. v. NRDC, 435 U.S. 519, 553 (1978). Also environmental objections that could be raised at the DEIS stage but are not raised until after completion of the FEIS may be waived or dismissed by the courts. City of Angoon v. Hodel, 803 F. 2d 1016, 1002 (9th Cir., 1986) and Wisconsin Heritages, Inc. v. Harris, 490 F. Supp. 1334, 1338 (E.D. Wis. 1980). Because of these court rulings, it is very important that those interested in this proposed action participate by the close of the DEIS 45-day comment period so that substantive comments and objections are made available to the Forest Service at a time when it can meaningfully consider them and respond to them in the FEIS.

To assist the Forest Service in identifying and considering issues and concerns on the proposed action, comments on the DEIS should be as specific as possible. It is also helpful if comments refer to specific pages or chapters of the draft statement. Reviewers may wish to refer to the Council on Environmental Quality Regulations for implementing the procedural provisions of the National Environmental Policy Act at 40 CFR 1503.3 in addressing these points.

Responsible Official: Frank V. Guzman, Deputy Forest Supervisor, Boise National Forest, 1249 South Vinnell Way, Suite 200, Boise, ID 83709.

Dated: December 1, 2006.
Frank V. Guzman,
Deputy Forest Supervisor.

[FR Doc. 06-9686 Filed 12-14-06; 8:45 am]

BILLING CODE 3410-11-M